OFFICE OF PERSONNEL MANAGEMENT

Submission for Review: Application for U.S. Flag Recognition Benefit for Deceased Federal Civilian Employees, OPM 1825

AGENCY: Office of Personnel Management.

ACTION: 30-day notice and request for comments.

SUMMARY: The Office of Personnel Management (OPM) offers the general public and other Federal agencies the opportunity to comment on a new information collection request (ICR) 3206-NEW, Application for U.S. Flag Recognition Benefit for Deceased Federal Civilian Employees. As required by the Paperwork Reduction Act of 1995, (Pub. L. 104-13, 44 U.S.C. chapter 35) as amended by the Clinger-Cohen Act (Pub. L. 104-106), OPM is soliciting comments for this collection. The information collection was previously published in the Federal Register on June 17, 2013 at 78 FR 36314 allowing for a 60-day public comment period. No comments were received for this information collection. The purpose of this notice is to allow an additional 30 days for public comments. The Office of Management and Budget is particularly interested in comments that:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

DATES: Comments are encouraged and will be accepted until April 10, 2014. This process is conducted in accordance with 5 CFR 1320.1.

ADDRESSES: Interested persons are invited to submit written comments on the proposed information collection to the Office of Information and Regulatory Affairs, Office of Management Budget, 725 17th Street NW., Washington, DC 20503, Attention: Desk Officer for the Office of Personnel Management or sent by email to oira_submission@omb.eop.gov or faxed to (202) 395-6974.

FOR FURTHER INFORMATION CONTACT: A copy of this ICR, with applicable supporting documentation, may be obtained by contacting the Office of Information and Regulatory Affairs, Office of Management Budget, 725 17th Street NW., Washington, DC 20503, Attention: Desk Officer for the Office of Personnel Management or sent by email to oira_submission@omb.eop.gov or faxed to (202) 395-6974.

SUPPLEMENTARY INFORMATION: The Civilian Service Recognition Act of 2011 (Pub. L. 112-73) authorizes an agency to furnish a United States flag on behalf of an employee who dies of injuries incurred in connection with his/her employment under specified circumstances. OPM is issuing guidance and final regulations to implement the Civilian Service Recognition Act of 2011. The guidance and regulations will assist agencies in administering a United States flag recognition benefit for fallen Federal civilian employees. The guidance and regulations describe the eligibility requirements and procedures to request a flag.

OPM Form OPM 1825, Application for U.S. Flag Recognition Benefit for Deceased Federal Civilian Employees, may be used to determine deceased Federal employee and beneficiary (e.g., family member of a deceased employee) eligibility for issuance of a U.S. flag. The form may be used by any Federal entity and use of the form is at agency discretion. Agencies equipped to accept electronic signatures may use an electronic version of the form.

Analysis

Agency: Office of Personnel Management.

Title: Application for U.S. Flag Recognition Benefit for Deceased Federal Civilian Employees.

OMB Number: 3206-NEW.

Affected Public: Individuals or households.

Number of Respondents: 10.

Estimated Time per Respondent: 10 minutes.

Total Burden Hours: 2 hours.

U.S. Office of Personnel Management.
Katherine Archuleta,
Director.

[FR Doc. 2014-05277 Filed 3-10-14; 8:45 am]

BILLING CODE 6325-39-P